ENVIRONMENTAL PROTECTION AGENCY

[ER-FRL-6664-3])

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050139, ERP No. D-COE-G32058-00, Arkansas River Navigation Study, To Maintain and Improve the Navigation Channel in Order to Enhance Commercial Navigation on the McCellan Kerr Arkansas River Navigation System (MKARNS), Several Counties, AR and Several Counties, OK.

Summary: EPA expressed environmental concerns due to wetland and aquatic resource impacts, and mitigation related to these impacts.

Rating EC2.

EIS No. 20050141, ERP No. D-USA-E11056-FL, Eglin Air Force Base and Hurlburt Field Military Family Housing, Demolition, Construction, Renovation and Leasing (DCR&L) Program, Okaloosa County, FL.

Summary: EPA expressed concern related to alternatives, best management practices to reduce impacts from polluted stormwater run-off, and sensitive areas/species.

Rating EC2.

EIS No. 20050120, ERP No. DS-AFS-J65327-CO, Baylor Park Blowdown Project, New Information, Salvage and Treat Down and Damaged Timber, To Reduce Impact of Spruce Beetles, Implementation, White River National Forest, Sopris and Rifle Ranger Districts, Garfield, Mesa and Pitkin Counties, CO.

Summary: EPA has no objection to the proposed action.

Rating LO.

Final EISs

EIS No. 20050167, ERP No. F-AFS-D65049-WV, Fernow Experimental Forest, To Continue Long-Term Research and Initiate New Research, Involving Removal of Trees, Prescribed Burning, Stem Injection of Selected of Trees, Control Invasive Plant Species, Northeastern Research Station, Parson, Tucker County, WV.

Summary: The Forest Service has adequately addressed EPA's previous comments, therefore, EPA has no objection to the proposed action.

Dated: June 7, 2005.
Ken Mittelholtz,
Environmental Protection Specialist, Office of Federal Activities.

[FR Doc. 05-11555 Filed 6-9-05; 8:45 am]

BILLING CODE 6560-50-P